DEPARTMENT OF HEALTH AND HUMAN SERVICES

Centers for Medicare & Medicaid Services

[CMS-3235-N]

Medicare Program; Listening Session on Development of Additional Imaging Efficiency Measures for Use in the Hospital Outpatient Quality Data Reporting Program

AGENCY: Centers for Medicare & Medicaid Services (CMS), HHS.

ACTION: Notice of meeting.

SUMMARY: This notice announces a listening session to receive comments regarding the development of additional imaging efficiency measures for use in the Hospital Outpatient Quality Data Reporting Program (HOP QDRP), which is authorized under section 1833(t)(17) of the Social Security Act. The purpose of this listening session is to solicit input from stakeholders to identify additional potential imaging efficiency measures that CMS could consider. Measure developers, hospitals, medical specialty societies, medical professionals, and other interested stakeholders are invited to participate either in person or via teleconference. The meeting is open to the public, but attendance is limited to space and teleconference lines available.

DATES: Meeting Date: The Listening Session announced in this notice will be held on Monday, January 31, 2011 from 1 p.m. to 5 p.m. Eastern Standard Time (E.S.T.).

Deadline for Meeting Registration and Request for Special Accommodations: Registration opens on January 7, 2011. For security reasons, registration must be completed by 5 p.m. E.S.T. on January 25, 2011. Requests for special accommodations must be received by 5 p.m. E.S.T. on January 25, 2011.

Deadline for Submission of Written Comments or Statements: Written comments or statements on the issues that were discussed at the listening session may be sent via mail, fax, or electronically to the address specified in the ADDRESSES section of this notice and must be received by 5 p.m. E.S.T. on February 10, 2011.

ADDRESSES: Meeting Location: The Listening Session will be held in the main auditorium of the Central Building of the Centers for Medicare and Medicaid Services, 7500 Security Boulevard, Baltimore, MD 21244-1850.

Registration and Special Accommodations: Persons interested in attending the meeting or participating by teleconference must register by completing the on-line registration. For in person attendance registration is available via the Web site at http://www.cms.gov/apps/events/event.asp?id=622. Individuals who require special accommodations should send a request via e-mail to imagingmeasures@cms.hhs.gov or by regular mail to Imaging Measures/OCSQ/QMHAG at Centers for Medicare & Medicaid Services, Mail Stop S3-02-01, 7500 Security Boulevard, Baltimore, MD 21244-1850. For individuals interested in participating via teleconference, registration is available via the Web site at https://www.magnetmail.net/events?cf4db6967a514fb681832e700ee3e5b0a. Individuals are encouraged to register early as there are a limited number of spaces available for in person attendance, as well as a limited number of conference call lines for the listening session.

Written Comments or Statements: Any interested party may send written comments or statements by mail to Imaging Measures/OCSQ/QMHAG, Centers for Medicare & Medicaid Services, Mail Stop S3-02-01, 7500 Security Boulevard, Baltimore, MD 21244-1850; by e-mail to imagingmeasures@cms.hhs.gov; or by fax to 410-786-8532.

We will accept written testimony, questions, or other statements, not to exceed 5 single-spaced, typed pages, before the meeting, and up until 5 p.m. E.S.T. on February 10, 2011. Submitters of suggestions for new measures are requested to provide references to the evidence base supporting the suggested measures.

FOR FURTHER INFORMATION CONTACT:

Susan Arday, (410) 786-3141.

Eva Fung, (410) 786-7539.

You may also send inquiries about this listening session via e-mail to susan.arday@cms.hhs.gov or eva.fung@cms.hhs.gov

SUPPLEMENTARY INFORMATION:

I. Background

Section 1833(t)(17) of the Social Security Act (Act) requires that hospitals submit outpatient quality measures data to CMS in order to receive the full annual payment update factor applicable to Outpatient Prospective Payment System (OPPS) services furnished by hospitals in outpatient settings. Section 1833(t)(17)(E) of the Act further mandates that CMS make this data available to the public. CMS, therefore, has established the Hospital Outpatient Quality Data Reporting Program (HOP QDRP). Beginning with the CY 2010 OPPS payment update, CMS adopted the following four claims-based imaging measures—(1) OP-8: MRI Lumbar Spine for Low Back Pain; (2) OP-9: Mammography Follow-up Rates; (3) OP-10: Abdomen CT Use of Contrast Material; and (4) OP-11: Thorax CT Use of Contrast Material.

These measures are claims-based and are calculated using Medicare claims data without imposing upon hospitals the burden of having to abstract the data from charts.

In the CY 2011 OPPS/ASC final rule published on November 24, 2010 (75 FR 71800) for the CY 2012 payment determination and subsequent payment determinations, CMS adopted three additional imaging efficiency measures—(1) Cardiac Imaging for Preoperative Risk Assessment for Non-Cardiac Low-Risk Surgery; (2) Simultaneous Use of Brain Computed Tomography (CT) and Sinus Computed Tomography (CT); and (3) Use of Brain Computed Tomography (CT) in the Emergency Department for Atraumatic Headache.

Public reporting of imaging efficiency measures are important because of the health risks and financial implications associated with the use of imaging procedures in the Medicare beneficiary population. Research shows that a significant portion of imaging services received by patients may be inappropriate; and immoderate use of diagnostic imaging also contributes to inflated medical technology costs. The imaging efficiency measures fill a significant gap in the availability of imaging efficiency measures at the hospital outpatient facility level and are a seminal step in the promotion of more efficient imaging services provided to Medicare beneficiaries.

This listening session will be hosted to solicit input from professionals and other interested parties on the development of additional imaging efficiency measures for the HOP QDRP program. Potential topics for consideration will include:

• Other imaging procedures that would be appropriate candidates for imaging efficiency measures;

• Data sources appropriate for imaging efficiency measures, e.g. claims data, chart abstracted data, EHRs, use of registries, etc.;

• Other settings appropriate for imaging efficiency measures, in addition to outpatient hospitals; and

• Development of imaging measures using a diagnosis or condition based approach versus measures developed using a procedure specific basis.

Relevant recommendations should include feedback on the integration of the imaging efficiency measures into the overall HOP QDRP program.

II. Listening Session Format

The listening session will be held on January 31, 2011. Measure developers, hospitals, medical specialty societies, medical professionals, and other interested stakeholders are invited to participate in person or by teleconference. The session will begin at 1 p.m. E.S.T. with an overview of objectives for the session. The remainder of the meeting will be devoted to receiving input on additional imaging efficiency measures and their integration into the overall HOP QDRP program. The meeting will conclude by 5 p.m. E.S.T.

Participants will be permitted to speak in the order in which they sign up. Participants are encouraged to provide references to the evidence base supporting their suggested measures. Comments from individuals not registered to speak will be heard after scheduled statements only if time permits.

III. Registration Instructions

For security reasons, any persons wishing to attend this meeting must register by the date listed in the DATES section of this notice. Persons interested in attending the meeting must register by completing the on-line registration via the designated Web site http://www.cms.gov/apps/events/event.asp?id=622.

The on-line registration system will generate a confirmation page to indicate the completion of your registration. Please print this page as your registration receipt.

Individuals may also participate in the listening session by teleconference. For individuals interested in participating via teleconference, registration is available via the Web site at https://www.magnetmail.net/events?cf4db6967a514fb681832e700ee3e5b0a. Registration is required as the number of call-in lines will be limited.

Background information on the listening session will be posted on the QualityNet Web site at http://www.qualitynet.org prior to the session. The information will be posted under the tab for “Hospitals Outpatient,” then select “Imaging Efficiency Measures” from the drop-down menu. We anticipate posting an audio download and/or transcript of the listening session in the same location on http://www.qualitynet.org after completion of the listening session.

Individuals requiring sign language interpretation or other special accommodations must contact the staff via the contact information specified in the FOR FURTHER INFORMATION CONTACT section of this notice by the date listed in the DATES section of this notice.

IV. Security, Building, and Parking Guidelines

This meeting will be held in a Federal government building; therefore, Federal security measures are applicable. The on-site check-in for visitors will begin at 12 noon E.S.T. We recommend that confirmed registrants arrive reasonably early, but no earlier than 45 minutes prior to the start of the meeting, to allow additional time to clear security. Security measures include the following:

• Presentation of government-issued photographic identification to the Federal Protective Service or Guard Service personnel.

• Inspection of vehicle's interior and exterior (this includes engine and trunk inspection) at the entrance to the grounds. Parking permits and instructions will be issued after the vehicle inspection.

• Inspection, via metal detector or other applicable means, of all persons entering the building. We note that all items brought into CMS, whether personal or for the purpose of presentation or to support a presentation, including items such as laptops, cell phones, and palm pilots, are subject to physical inspection. We cannot assume responsibility for coordinating the receipt, transfer, transport, storage, set-up, safety, or timely arrival of any personal belongings or items used for a presentation.

We note that individuals who are not registered in advance will not be permitted to enter the building and will be unable to attend the meeting. The public may not enter the building earlier than 60 minutes prior to the convening of the meeting.

All visitors must be escorted in areas other than the lower and first floor levels in the Central Building.

(Catalog of Federal Domestic Assistance Program No. 93.773, Medicare—Hospital Insurance; and Program No. 93.774, Medicare—Supplementary Medical Insurance Program)

Dated: November 18, 2010.
Donald M. Berwick,
Administrator, Centers for Medicare and Medicaid Services.

[FR Doc. 2010-29995 Filed 11-26-10; 8:45 am]

BILLING CODE 4120-01-P